DEPARTMENT OF THE INTERIOR

Bureau of Land Management

[LLCOF02000 L51100000.GA0000 LVEMC18CC500 18X]

Notice of Availability of the Environmental Assessment and Notice of Public Hearing for the New Elk Coal Company, LLC, Coal Lease-by-Application COC-71978, Las Animas County, CO

AGENCY: Bureau of Land Management, Interior.

ACTION: Notice of availability and public hearing.

SUMMARY: In accordance with Federal coal management regulations, the New Elk Coal Company, LLC (New Elk Coal) Federal Coal Lease-by-Application (LBA) Environmental Assessment (EA) is available for public review and comment. The Bureau of Land Management (BLM), Royal Gorge Field Office (RGFO) will hold a public hearing to receive comments on the EA, Fair Market Value (FMV), and Maximum Economic Recovery (MER) of the coal resources contained in the proposed New Elk Coal LBA lease tract, serial number COC-71978.

DATES: The public hearing will be held on July 24, 2019, from 6 p.m. to 8 p.m. Mountain Time. Comments should be received no later than August 5, 2019.

ADDRESSES: The public hearing will be held at the Mount Carmel Wellness and Community Center, 911 Robison Avenue, Trinidad, Colorado 81082. Copies of the EA are available online at https://go.usa.gov/xENMj and at the BLM RGFO, 3028 East Main Street, Canon City, Colorado 81212. Verbal comments related to the New Elk Coal LBA EA, FMV and MER will be accepted at the public hearing, all other comments must be submitted electronically. Electronic submissions may be uploaded at: https://go.usa.gov/xENMj.

FOR FURTHER INFORMATION CONTACT: Melissa Smeins, Geologist; BLM RGFO, 3028 East Main Street, Canon City, Colorado 81212; telephone: 719-269-8523; email: msmeins@blm.gov. Persons who use a telecommunications device for the deaf (TDD) may call the Federal Relay Service (FRS) at 1-800-877-8339 to contact Ms. Smeins during normal business hours. The FRS is available 24 hours a day, 7 days a week, to leave a message or question. You will receive a reply during normal business hours.

SUPPLEMENTARY INFORMATION: On October 12, 2007, New Elk Coal submitted an application to lease 1,279 acres of Federal coal resources located in Las Animas County, Colorado. The company put the lease application on hold for several years and is now interested in proceeding with the lease application. The application is for the Blue and Maxwell coal seams, which would be mined by underground methods. The EA analyzes and discloses the potential direct, indirect and cumulative impacts of leasing of the proposed 1,279 acres of the Blue and Maxwell seams. The LBA is located at the New Elk Coal Mine and contains approximately 8 million tons of recoverable Federal coal resources. The LBA underlies private surface owned by 12 individuals and is described as follows:

Sixth Principal Meridian, Colorado

T. 33 S., R. 67 W.,

sec. 6, lots 2 thru 7, and E½SW¼;

sec. 7, lot 2;

sec. 17, E½NE¼, and NE¼SE¼;

sec. 18, lots 2 thru 4, and E½SW¼;

sec. 19, lot 1, NW¼NE¼, and NE¼NW¼.

T. 33 S., R. 68 W.,

sec. 1, lots 1 and 2, S½NE¼, and E½SE¼;

sec. 12, E½NE¼;

sec. 13, S½NE¼, N½SE¼, and SE¼SE¼.

The areas described contain 1,279.63 acres of Federal coal resources.

The EA addresses natural resource, cultural, socioeconomic, environmental, and cumulative impacts that would result from leasing these lands. Two alternatives are addressed in the EA:

Alternative 1 (Proposed Action): The BLM would lease the tract as requested in the LBA; and

Alternative 2 (No Action): The BLM would reject or deny the application, and the subsurface Federal coal reserves would be bypassed.

Through this Notice, the BLM is inviting the public to provide comments regarding the potential environmental impacts related to the proposed action and to submit comments on the EA, FMV and the MER for the proposed LBA tract. All public comments will receive consideration prior to the BLM's decision regarding the leasing of the Federal coal contained in the tract.

Proprietary information or data marked as confidential may be submitted to the BLM in response to this solicitation of comments. Information and data marked confidential will be treated in accordance with the applicable laws and regulations governing the confidentiality of such information or data. A copy of the comments submitted by the public on the EA, FMV, and MER for the tract, except those portions identified as proprietary and that meet one of the exemptions in the Freedom of Information Act, will be available for public inspection at the BLM RGFO at the address listed earlier during regular business hours (8 a.m. to 4:30 p.m. M.D.T.), Monday through Friday.

Before including your address, phone number, email address, or other personal identifying information in your comment, you should be aware that your entire comment—including your personal identifying information—may be made public at any time. While you can ask us in your comment to withhold your personal identifying information from public review, we cannot guarantee that we will be able to do so.

(Authority: 40 CFR 1506.6; 43 CFR 3425.3, and 3425.4)

Jamie E. Connell,
BLM Colorado State Director.

[FR Doc. 2019-14344 Filed 7-3-19; 8:45 am]

BILLING CODE 4310-JB-P